DEPARTMENT OF HEALTH AND HUMAN SERVICES

National Institutes of Health

Center for Scientific Review; Amended Notice of Meeting

Notice is hereby given of a change in the meeting of the Musculoskeletal Rehabilitation Sciences Study Section, October 24, 2013, 08:00 a.m. to October 25, 2013, 06:00 p.m., Mayflower Park Hotel, 405 Olive Way, Seattle, WA, 98101 which was published in the Federal Register on October 01, 2013, 78 FR 190 Pgs. 60297-60299.

The meeting will be held at the Hilton Alexandria Old Town, 1767 King Street, Alexandria, VA 22314. The meeting will start on December 9, 2013 at 8:00 a.m. and end December 10, 2013 at 6:00 p.m.

The meeting is closed to the public.

Dated: November 1, 2013.
Anna Snouffer,
Deputy Director, Office of Federal Advisory Committee Policy.

[FR Doc. 2013-26626 Filed 11-6-13; 8:45 am]

BILLING CODE 4140-01-P